DEPARTMENT OF EDUCATION

[Docket No.: ED-2022-SCC-0097]

Agency Information Collection Activities; Submission to the Office of Management and Budget for Review and Approval; Comment Request; International Computer and Information Literacy Study (ICILS 2023) Main Study Questionnaire Revision

AGENCY: Institute of Educational Studies (IES), Department of Education (ED).

ACTION: Notice.

SUMMARY: In accordance with the Paperwork Reduction Act of 1995, ED is proposing a revision of a currently approved information collection.

DATES: Interested persons are invited to submit comments on or before August 22, 2022.

ADDRESSES: Written comments and recommendations for proposed information collection requests should be sent within 30 days of publication of this notice to www.reginfo.gov/public/do/PRAMain. Find this information collection request (ICR) by selecting “Department of Education” under “Currently Under Review,” then check “Only Show ICR for Public Comment” checkbox. Reginfo.gov provides two links to view documents related to this information collection request. Information collection forms and instructions may be found by clicking on the “View Information Collection (IC) List” link. Supporting statements and other supporting documentation may be found by clicking on the “View Supporting Statement and Other Documents” link. Comments may also be sent to ICDocketmgr@ed.gov.

FOR FURTHER INFORMATION CONTACT: For specific questions related to collection activities, please contact Carrie Clarady, 202-245-6347.

SUPPLEMENTARY INFORMATION: The Department in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed ICR that is described below. The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: International Computer and Information Literacy Study (ICILS 2023) Main Study Questionnaire Revision.

OMB Control Number: 1850-0929.

Type of Review: Revision of a currently approved information collection.

Respondents/Affected Public: Individuals and Households.

Total Estimated Number of Annual Responses: 9,860.

Total Estimated Number of Annual Burden Hours: 4,817.

Abstract: The International Computer and Information Literacy Study (ICILS) is a computer-based international assessment of eighth-grade students' computer and information literacy (CIL) skills. ICILS was first administered internationally in 2013 in 21 education systems and again in 2018, when the United States participated for the first time. Our participation in this study has provided data on students' skills and experience using technology to investigate, create, and communicate, and provided a comparison of U.S. student performance and technology access and use with those of the international peers. The next administration of ICILS will be in 2023. The 2023 study will allow the U.S. to begin monitoring the progress of its students compared to that of other nations and to provide data on factors that may influence student computer and information literacy skills. The data collected through ICILS will provide valuable information with which to understand the nature and extent of the “digital divide” and has the potential to inform understanding of the relationship between technology skills and experience and student performance in other core subject areas. ICILS is conducted by the International Association for the Evaluation of Educational Achievement (IEA), an international collective of research organizations and government agencies that create the assessment framework, assessment, and background questionnaires. The IEA decides and agrees upon a common set of standards and procedures for collecting and reporting ICILS data, and defines the study timeline, all of which must be followed by all participating countries. As a result, ICILS is able to provide a reliable and comparable measure of student skills in participating countries. In the U.S., the National Center for Education Statistics (NCES) conducts this study and works with the IEA and RTI International to ensure proper implementation of the study and adoption of practices in adherence to the IEA's standards. Participation in ICILS will allow NCES to meet its mandate of acquiring and disseminating data on educational activities and student achievement in the United States compared with foreign nations [The Educational Sciences Reform Act of 2002 (ESRA 2002) 20 U.S.C. 9543]. The U.S. ICILS main study will be conducted from March through May 2023 and will involve a nationally-representative sample of at least 3,000 eighth-grade students from a minimum of 150 schools. Because ICILS is a collaborative effort among many parties, the United States must adhere to the international schedule set forth by the IEA, including the availability of final field test and main study plans as well as draft and final questionnaires. In order to meet the international data collection schedule and to align with recruitment for other NCES studies (e.g., TIMSS), approval for the main study sampling, recruitment, and data collection activities was approved in April 2022 (OMB# 1850-0929 v9). This request is for approval for the (1) revised study revision timeline; (2) updated screen shots of the study portal; (3) changes to the main study contact materials; and (4) addition of COVID-related items in the questionnaires. If necessary, a final change memo will be submitted in December 2022 with the IEA-approved adapted main study questionnaire. Changes are described below and are included in the supporting documentation.

Dated: July 18, 2022.
Stephanie Valentine,
PRA Coordinator, Strategic Collections and Clearance, Governance and Strategy Division, Office of Chief Data Officer, Office of Planning, Evaluation and Policy Development.

[FR Doc. 2022-15577 Filed 7-20-22; 8:45 am]

BILLING CODE 4000-01-P